DEPARTMENT OF STATE

[Delegation of Authority No. 522]

Delegation of Authority; Designation of U.S. Delegations to International Conferences

By virtue of the authority vested in the Secretary of State by the laws of the United States of America, including 22 U.S.C. 2651a(a)(4), and as Minister of Foreign Affairs of the United States of America, I hereby delegate to the Assistant Secretary of State for International Organization Affairs (IO) and the IO Director of International Conferences (IO/C), the authority to designate delegates of the United States of America to international conferences, including any meeting convened by an international organization.

The Secretary of State, the Deputy Secretary, the Deputy Secretary for Management and Resources, and the Under Secretary for Political Affairs may also exercise the authority delegated herein. The delegations of authority from the Secretary of State to the IO Assistant Secretary of State, dated March 6, 1953, and from IO to the Director of the Office of International Conferences, dated May 29, 1975, are hereby rescinded. This delegation does not rescind or otherwise affect any other delegation currently in effect.

This memorandum shall be published in the Federal Register.

Dated: November 23, 2021.
Antony J. Blinken,
Secretary of State.

[FR Doc. 2021-26929 Filed 12-10-21; 8:45 am]

BILLING CODE 4710-19-P